DEPARTMENT OF TRANSPORTATION

Federal Aviation Administration

14 CFR Part 39

[Docket No. FAA-2014-0292; Directorate Identifier 2014-CE-011-AD]

RIN 2120-AA64

Airworthiness Directives; GROB-WERKE GMBH & CO KG and BURKHART GROB LUFT- UND RAUMFAHRT GmbH & CO KG Gliders

AGENCY: Federal Aviation Administration (FAA), Department of Transportation (DOT).

ACTION: Notice of proposed rulemaking (NPRM).

SUMMARY: We propose to adopt a new airworthiness directive (AD) for GROB-WERKE GMBH & CO KG Models G102 STANDARD ASTIR III, G102 CLUB ASTIR III, and G102 CLUB ASTIR IIIb gliders and BURKHART GROB LUFT-UND RAUMFAHRT GmbH & CO KG Models G103 TWIN II, G103A TWIN II ACRO, G103C TWIN III ACRO, and G 103 C Twin III SL gliders. This proposed AD results from mandatory continuing airworthiness information (MCAI) originated by an aviation authority of another country to identify and correct an unsafe condition on an aviation product. The MCAI describes the unsafe condition as plastic control cable pulleys developing cracks due to aging. We are issuing this proposed AD to require actions to address the unsafe condition on these products.

DATES: We must receive comments on this proposed AD by June 20, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Fiberglas-Technik Rudolf Lindner GmbH & Co. KG, Steige 3, D-88487 Walpertshofen, Germany; telephone: +49 (0) 7353/22 43; fax: +49 (0) 7353/30 96; email: info@LTB-Lindner.com; Web site: http://www.ltb-lindner.com/home.104.html. You may review this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0292; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2014-0292; Directorate Identifier 2014-CE-011-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No.: 2014-0067, dated March 18, 2014 (referred to after this as “the MCAI”), to correct an unsafe condition for the specified products. The MCAI states:

Control cable pulleys made from plastic (white or brown material) in the rudder control unit were reported to develop cracks due to aging. In one case, jamming of the rudder control unit was reported.

This condition, if not detected and corrected, could cause cable pulleys to break, potentially jamming the rudder control unit and resulting in loss of control of the sailplane.

To address this potential unsafe condition, Fiberglas-Technik issued Technische Mitteilung/Service Bulletin TM-G05/SB-G05 and Anweisung/Instructions A/I-G05 (one document) to provide instructions for the replacement of plastic cable pulleys with pulleys made from aluminium.

For the reason described above, this AD requires identification and replacement of plastic cable pulleys in the rudder control unit.

Plastic cable pulleys may also be installed in the cable circuits of pedal adjustment and/or tow hook actuation, their replacement is not required by this AD.

You may examine the MCAI on the Internet at http://www.regulations.gov by searching for and locating Docket No. FAA-2014-0292.

Relevant Service Information

Fiberglas-Technik Rudolf Lindner GmbH & Co. KG has issued Service Bulletin SB-G05, dated January 17, 2014; and Instructions A/I-G05, dated January 17, 2014. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 118 products of U.S. registry. We also estimate that it would take about .5 work-hour per product to comply with the basic requirements of this proposed AD. The average labor rate is $85 per work-hour.

Based on these figures, we estimate the cost of the proposed AD on U.S. operators to be $5,015, or $42.50 per product.

In addition, we estimate that any necessary follow-on actions would take about 2 work-hours and require parts costing $244, for a cost of $414 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

GROB-WERKE GMBH & CO KG and BURKHART GROB LUFT-UND RAUMFAHRT GmbH & CO KG: Docket No. FAA-2014-0292; Directorate Identifier 2014-CE-011-AD.

(a) Comments Due Date

We must receive comments by June 20, 2014.

(b) Affected ADs

None.

(c) Applicability

This AD applies to GROB-WERKE GMBH & CO KG Models G102 STANDARD ASTIR III, G102 CLUB ASTIR III, and G102 CLUB ASTIR IIIb gliders and BURKHART GROB LUFT-UND RAUMFAHRT GmbH & CO KG Models G103 TWIN II, G103A TWIN II ACRO, G103C TWIN III ACRO and Model G 103 C Twin III SL gliders with the following serial numbers (S/N), certificated in any category.

(1) G102 STANDARD ASTIR III, S/N 5501 through 5652.

(2) G102 CLUB ASTIR III, S/N 5501 through 5652.

(3) G102 CLUB ASTIR IIIb, S/N 5501 through 5652.

(4) G103 TWIN II, S/N 3730 through 34078.

(5) G103A TWIN II ACRO, S/N 3730 through 34078.

(6) G103C TWIN III ACRO, S/N 34101 through 34203.

(7) G 103 C Twin III SL, S/N 35002 through 35051.

(d) Subject

Air Transport Association of America (ATA) Code 27: Flight Controls.

(e) Reason

This AD was prompted by mandatory continuing airworthiness information (MCAI) originated by an aviation authority of another country to identify and correct an unsafe condition on an aviation product. The MCAI describes the unsafe condition as plastic control cable pulleys developing cracks due to aging. We are issuing this proposed AD to detect and correct plastic control cable pulleys in the rudder control unit, which could lead to breaking of the pulley and potentially jamming the rudder control unit, possibly resulting in loss of control of the glider.

(f) Actions and Compliance

Comply with this AD within the compliance times specified in paragraphs (f)(1) through (f)(3) of this AD, unless already done.

(1) For all Models G103C TWIN III ACRO and G 103 C Twin III SL gliders: Within 3 months after the effective date of this AD, inspect the rudder control unit for installation of plastic cable pulleys. If plastic cable pulleys are installed, before further flight, replace the plastic cable pulleys with aluminum cable pulleys following the actions and instructions of Fiberglas-Technik Rudolf Lindner GmbH & Co. KG Service Bulletin SB-G05 and Fiberglas-Technik Rudolf Lindner GmbH & Co. KG Instructions A/I-G05, both dated January 17, 2014.

(2) For all Models G102 STANDARD ASTIR III, G102 CLUB ASTIR III, G102 CLUB ASTIR IIIb, G103 TWIN II, and G103A TWIN II ACRO gliders: Within 1 month after the effective date of this AD, inspect the rudder control unit for installation of plastic cable pulleys. If plastic cable pulleys are installed, before further flight, replace the plastic cable pulleys with aluminum cable pulleys following the actions and instructions of Fiberglas-Technik Rudolf Lindner GmbH & Co. KG Service Bulletin SB-G05 and Fiberglas-Technik Rudolf Lindner GmbH & Co. KG Instructions A/I-G05, both dated January 17, 2014.

(3) As of the effective date of this AD, do not install any plastic control cable pulley in the rudder control unit of any glider identified in paragraphs (c)(1) through (c)(7) of this AD.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to European Aviation Safety Agency (EASA) AD No.: 2014-0067, dated March 18, 2014, for related information. You may examine the MCAI on the Internet at http://www.regulations.gov by searching for and locating Docket No. FAA-2014-0292. For service information related to this AD, contact Fiberglas-Technik Rudolf Lindner GmbH & Co. KG, Steige 3, D-88487 Walpertshofen, Germany; telephone: +49 (0) 7353/22 43; fax: +49 (0) 7353/30 96; email: info@LTB-Lindner.com; Web site: http://www.ltb-lindner.com/home.104.html. You may review this referenced service information at the FAA, Small Airplane Directorate, 901 Locust, Kansas City, Missouri 64106. For information on the availability of this material at the FAA, call (816) 329-4148.

Issued in Kansas City, Missouri, on April 30, 2014.
Earl Lawrence,
Manager, Small Airplane Directorate, Aircraft Certification Service.

[FR Doc. 2014-10308 Filed 5-5-14; 8:45 am]

BILLING CODE 4910-13-P